DEPARTMENT OF THE INTERIOR

Bureau of Indian Affairs

[156A2100DD/AAKC001030/A0A501010.999900 253G]

Renewal of Agency Information Collection for Loan Guarantee, Insurance and Interest Subsidy Program

AGENCY: Bureau of Indian Affairs, Interior.

ACTION: Notice of request for comments.

SUMMARY: In compliance with the Paperwork Reduction Act of 1995, the Assistant Secretary—Indian Affairs is seeking comments on the renewal of Office of Management and Budget (OMB) approval for the collection of information for the Loan Guarantee, Insurance, and Interest Subsidy Program authorized by OMB Control Number 1076-0020. This information collection expires October 31, 2015.

DATES: Submit comments on or before September 14, 2015.

ADDRESSES: You may submit comments on the information collection to: Mr. James West, Division of Capital Investment, Office of Indian Energy and Economic Development, U.S. Department of the Interior, 1951 Constitution Avenue NW., MS-20-SIB, Washington, DC 20245; email: JamesR.West@bia.gov.

FOR FURTHER INFORMATION CONTACT: David Johnson, phone: (202) 208-7253.

SUPPLEMENTARY INFORMATION:

I. Abstract

The Office of Indian Energy and Economic Development (IEED) is seeking renewal of the approval for the information collection conducted under 25 CFR 103, implementing the Loan Guarantee, Insurance, and Interest Subsidy Program, established by 25 U.S.C. 1451 et seq. The information collection allows IEED to determine the eligibility and credit-worthiness of respondents and loans and otherwise ensure compliance with Program requirements. This information collection includes the use of several forms. A response is required to obtain and/or retain a benefit.

II. Request for Comments

The IEED requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0020.

Title: Loan Guarantee, Insurance, and Interest Subsidy, 25 CFR 103.

Brief Description of Collection: Submission of this information allows IEED to implement the Loan Guarantee, Insurance, and Interest Subsidy Program, 25 U.S.C. 1451 et seq., the purpose of which is to encourage private lending to individual Indians and Indian organizations by providing lenders with loan guarantees or loan insurance to reduce their potential risk. The information collection allows IEED to determine the eligibility and credit-worthiness of respondents and loans and otherwise ensure compliance with Program requirements. This information collection includes the use of several forms. A response is required to obtain and/or retain a benefit.

Type of Review: Extension of currently approved collection.

Respondents: Lenders, including commercial banks, and borrowers, including individual Indians and Indian organizations.

Number of Respondents: 295.

Frequency of Response: On occasion, as needed.

Estimated Time per Response: Ranging from 0.5 to 2 hours.

Estimated Total Annual Hour Burden: 2,644 hours.

Estimated Total Annual Non-Hour Dollar Cost: $0.

Dated: July 8, 2015.
Elizabeth K. Appel,
Director, Office of Regulatory Affairs and Collaborative Action—Indian Affairs.

[FR Doc. 2015-17065 Filed 7-13-15; 8:45 am]

BILLING CODE 4337-15-P